Title 3—

The President

Executive Order 13814 of October 20, 2017

Amending Executive Order 13223

By the authority vested in me as President by the Constitution and the laws of the United States of America, including the National Emergencies Act (50 U.S.C. 1601 et seq.), and in furtherance of the objectives of Proclamation 7463 of September 14, 2001 (Declaration of National Emergency by Reason of Certain Terrorist Attacks), which declared a national emergency by reason of the terrorist attacks of September 11, 2001, in New York and Pennsylvania and against the Pentagon, and the continuing and immediate threat of further attacks on the United States, and in order to provide the Secretary of Defense additional authority to manage personnel requirements in a manner consistent with the authorization provided in Executive Order 13223 of September 14, 2001 (Ordering the Ready Reserve of the Armed Forces to Active Duty and Delegating Certain Authorities to the Secretary of Defense and the Secretary of Transportation), it is hereby ordered as follows:

Section 1. Amendment to Executive Order 13223. Section 1 of Executive Order 13223 is amended by adding at the end: “The authorities available for use during a national emergency under sections 688 and 690 of title 10, United States Code, are also invoked and made available, according to their terms, to the Secretary concerned, subject in the case of the Secretaries of the Army, Navy, and Air Force, to the direction of the Secretary of Defense.”

Sec. 2. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

October 20, 2017.

[FR Doc. 2017-23270

Filed 10-23-17; 11:15 am]

Billing code 3295-F8-P